DEPARTMENT OF TRANSPORTATION

Federal Aviation Administration

14 CFR Part 39

[Docket No. 2003-NM-190-AD; Amendment 39-13302; AD 2003-18-11]

RIN 2120-AA64

Airworthiness Directives; Gulfstream Model G-V Series Airplanes

AGENCY: Federal Aviation Administration, DOT.

ACTION: Final rule; request for comments.

SUMMARY: This amendment adopts a new airworthiness directive (AD) that is applicable to certain Gulfstream Model G-V series airplanes. This action requires a one-time inspection of the balance weight installation of the left and right ailerons for correctly installed attachment components, and corrective action if necessary. This action is necessary to prevent separation of the balance weights of the aileron, which could result in jamming of the pilot's aileron control system, subsequent loss of aileron control, and consequent reduced controllability of the airplane. This action is intended to address the identified unsafe condition.

DATES: Effective September 26, 2003.

The incorporation by reference of certain publications listed in the regulations is approved by the Director of the Federal Register as of September 26, 2003.

Comments for inclusion in the Rules Docket must be received on or before November 10, 2003.

ADDRESSES: Submit comments in triplicate to the Federal Aviation Administration (FAA), Transport Airplane Directorate, ANM-114, Attention: Rules Docket No. 2003-NM-190-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2003-NM-190-AD” in the subject line and need not be submitted in triplicate. Comments sent via the Internet as attached electronic files must be formatted in Microsoft Word 97 or 2000 or ASCII text.

The service information referenced in this AD may be obtained from Gulfstream Aerospace Corporation, PO Box 2206, M/S D-10, Savannah, Georgia 31402-9980. This information may be examined at the FAA, Transport Airplane Directorate, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

FOR FURTHER INFORMATION CONTACT: Darby Mirocha, Aerospace Engineer, ACE-116A, FAA, Atlanta Aircraft Certification Office, One Crown Center, 1895 Phoenix Boulevard, suite 450, Atlanta, Georgia 30349; telephone (770) 703-6095; fax (770) 703-6097.

SUPPLEMENTARY INFORMATION: The FAA has received a report on a Gulfstream Model G-V series airplane of loss of aileron control authority on final approach during landing. Investigation revealed that the outboard balance weight of the left aileron had detached and was wedged between the aileron and the rear beam of the wing. Further investigation revealed that the attachment hardware (all nine fastener assemblies) for the balance weight was missing. Supporting data show that all the attachment hardware was not properly installed during assembly. Separation of the balance weights of the aileron could result in jamming of the pilot's aileron control system, subsequent loss of aileron control, and consequent reduced controllability of the airplane.

Explanation of Relevant Service Information

We have reviewed and approved Gulfstream GV Customer Bulletin 104, dated June 9, 2003 (hereafter referred to as “the service bulletin”), which describes procedures for a one-time inspection of the balance weight installation of the left and right ailerons for correctly installed attachment components, and corrective action if necessary. The corrective action includes ensuring proper engagement of the self-locking nut by verifying that one to three threads of the screw/bolt are protruding, replacing any missing fasteners, and re-torqueing any loose fasteners. Accomplishment of the actions specified above is intended to adequately address the identified unsafe condition. Although the Accomplishment Instructions of the service bulletin describe procedures for recording and reporting compliance with the service bulletin, this AD does not require those actions.

Explanation of the Requirements of the Rule

Since an unsafe condition has been identified that is likely to exist or develop on other airplanes of the same type design registered in the United States, this AD requires accomplishment of the actions specified in the service bulletin described previously, except as discussed below.

Difference Between This AD and the Service Bulletin

The service bulletin refers only to an “inspection” of the balance weight installation of the left and right ailerons for correctly installed attachment components. We have determined that the procedures in the service bulletin should be described as a “general visual inspection.” Note 1 has been included in this AD to define this type of inspection.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance (AMOCs). Because we have now included this material in part 39, only the office authorized to approve AMOCs is identified in each individual AD.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2003-NM-190-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-18-11 Gulfstream Aerospace Corporation: Amendment 39-13302. Docket 2003-NM-190-AD.

Applicability: Model G-V series airplanes, serial numbers 501 through 667 inclusive, and serial number 699; certificated in any category.

Compliance: Required as indicated, unless accomplished previously.

To prevent separation of the balance weights of the aileron, which could result in jamming of the pilot's aileron control system, subsequent loss of aileron control and consequent reduced controllability of the airplane, accomplish the following:

One-Time Inspection/Corrective Action if Necessary

(a) Within the next 50 landings or 90 days after the effective date of this AD, whichever is first: Do a one-time general visual inspection of the balance weight installation of the left and right ailerons for correctly installed attachment components (including any corrective actions) by doing all the actions specified in paragraphs II.A. through G. of the Accomplishment Instructions of Gulfstream GV Customer Bulletin 104, dated June 9, 2003. Do the actions per the service bulletin. Any applicable corrective actions must be done before further flight.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Alternative Methods of Compliance

(b) In accordance with 14 CFR 39.19, the Manager, Atlanta Aircraft Certification Office (ACO), FAA, is authorized to approve alternative methods of compliance for this AD.

Incorporation by Reference

(c) The actions shall be done in accordance with Gulfstream GV Customer Bulletin 104, dated June 9, 2003. This incorporation by reference was approved by the Director of the Federal Register in accordance with 5 U.S.C. 552(a) and 1 CFR part 51. Copies may be obtained from Gulfstream Aerospace Corporation, PO Box 2206, M/S D-10, Savannah, Georgia 31402-9980. Copies may be inspected at the FAA, Transport Airplane Directorate, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

Effective Date

(d) This amendment becomes effective on September 26, 2003.

Issued in Renton, Washington, on September 4, 2003.
Ali Bahrami,
Acting Manager, Transport Airplane Directorate, Aircraft Certification Service.

[FR Doc. 03-22991 Filed 9-10-03; 8:45 am]

BILLING CODE 4910-13-P